SECURITIES AND EXCHANGE COMMISSION

[File No. 500-1]

Wendt-Bristol Health Services Corp.; Order of Suspension of Trading

September 26, 2008.

It appears to the Securities and Exchange Commission that there is a lack of current and accurate information concerning the securities of Wendt-Bristol Health Services Corp. (“Wendt-Bristol”) because it has not filed any periodic reports since the period ended March 31, 2000. Wendt-Bristol is quoted on the Pink Sheets operated by Pink OTC Markets, Inc. under the ticker symbol WMDB.

The Commission is of the opinion that the public interest and the protection of investors require a suspension of trading in the securities of the above-listed company.

Therefore, it is ordered, pursuant to Section 12(k) of the Securities Exchange Act of 1934, that trading in the securities of the above-listed company is suspended for the period from 9:30 a.m. EDT on September 26, 2008, through 11:59 p.m. EDT on October 9, 2008.

By the Commission.
J. Lynn Taylor,
Assistant Secretary.

[FR Doc. E8-23086 Filed 9-26-08; 4:15 pm]

BILLING CODE 8011-01-P